DEPARTMENT OF HEALTH AND HUMAN SERVICES

Food and Drug Administration

[Docket No. FDA-2011-N-0003]

Withdrawal of Approval of New Animal Drug Applications

AGENCY: Food and Drug Administration, HHS.

ACTION: Notice.

SUMMARY: The Food and Drug Administration (FDA) is withdrawing approval of 20 new animal drug applications (NADAs) at the sponsor's request because the products are no longer manufactured or marketed.

DATES: Withdrawal of approval is effective February 13, 2012.

FOR FURTHER INFORMATION CONTACT: John Bartkowiak, Center for Veterinary Medicine (HFV-212), Food and Drug Administration, 7519 Standish Pl., Rockville, MD 20855, 240-276-9079, email: john.bartkowiak@fda.hhs.gov.

SUPPLEMENTARY INFORMATION: The following sponsors have requested that FDA withdraw approval of the 20 NADAs listed in table 1 of this document because the products are no longer manufactured or marketed:

Table 1—NADAs for Which Approval is Voluntarily Withdrawn
Application No. | Trade name (drug) | Applicant
NADA 014-485 | METOPHANE Inhalation (methoxyflurane) | Medical Developments, International Ltd., 556 Morris Ave., Summit, NJ 07901-1330.
NADA 032-322 | LIQUISONE F with Cerumene (hexamethyltetracosane, prednisolone, tetracaine, neomycin sulfate) | Evsco Pharmaceuticals, an Affiliate of IGI, Inc., Box 209, Harding Hwy., Buena, NJ 08310.
NADA 044-655 | NEOMYCANE Ophthalmic Ointment (neomycin sulfate) | Evsco Pharmaceuticals, an Affiliate of IGI, Inc., Box 209, Harding Hwy., Buena, NJ 08310.
NADA 045-288 | OPTISONE (neomycin sulfate, prednisolone acetate) | Evsco Pharmaceuticals, an Affiliate of IGI, Inc., Box 209, Harding Hwy., Buena, NJ 08310.
NADA 049-890 | NORCO T-2 Pre-Pak (tylosin phosphate) | Norco Mills of Norfolk, Inc., P.O. Box 56, Norfolk, NE 68701.
NADA 055-034 | CHLORASOL (chloramphenicol) | Evsco Pharmaceuticals, an Affiliate of IGI, Inc., Box 209, Harding Hwy., Buena, NJ 08310.
NADA 055-052 | Chlora-Tabs 100 (chloramphenicol) | Evsco Pharmaceuticals, an Affiliate of IGI, Inc., Box 209, Harding Hwy., Buena, NJ 08310.
NADA 065-158 | CHLORICOL (chloramphenicol) | Evsco Pharmaceuticals, An Affiliate of IGI, Inc., Box 209, Harding Hwy., Buena, NJ 08310.
NADA 065-259 | CHLORASONE Ophthalmic Ointment (chloramphenicol, prednisolone acetate) | Evsco Pharmaceuticals, an Affiliate of IGI, Inc., Box 209, Harding Hwy., Buena, NJ 08310.
NADA 065-488 | BENZA-PEN (penicillin G benzathine, penicillin G procaine) | Walco International, Inc., 15 West Putnam, Porterville, CA 93257.
NADA 095-953 | MOORMABOOST TY 4000 Medicated (tylosin phosphate) | ADM Alliance Nutrition, Inc., 1000 North 30th St., Quincy, IL 62305-3115.
NADA 100-689 | DIFIL Syrup (diethylcarbamazine citrate) | Evsco Pharmaceuticals, an Affiliate of IGI, Inc., Box 209, Harding Hwy., Buena, NJ 08310.
NADA 100-690 | DIFIL Tablets (diethylcarbamazine citrate) | Evsco Pharmaceuticals, an Affiliate of IGI, Inc., Box 209, Harding Hwy., Buena, NJ 08310.
NADA 107-957 | TYLAN 20 Sulfa-G (tylosin phosphate and sulfamethazine) | ADM Alliance Nutrition, Inc., 1000 North 30th St., Quincy, IL 62305-3115.
NADA 111-069 | TYLAN 40 Sulfa-G (tylosin phosphate and sulfamethazine) | ADM Alliance Nutrition, Inc., 1000 North 30th St., Quincy, IL 62305-3115.
NADA 131-956 | TYLAN Sulfa-G (tylosin phosphate and sulfamethazine) | ADM Alliance Nutrition, Inc., 1000 North 30th St., Quincy, IL 62305-3115.
NADA 131-957 | TYLAN 40 (tylosin phosphate) | ADM Alliance Nutrition, Inc., 1000 North 30th St., Quincy, IL 62305-3115.
NADA 133-490 | Ban-D-Wormer II BANMINTH (pyrantel tartrate) | ADM Alliance Nutrition, Inc., 1000 North 30th St., Quincy, IL 62305-3115.
NADA 140-842 | HYGROMIX 2.4 Premix (hygromycin B) | ADM Alliance Nutrition, Inc., 1000 North 30th St., Quincy, IL 62305-3115.
NADA 140-958 | EQUIPHEN Paste (phenylbutazone) | Luitpold Pharmaceuticals, Inc., Animal Health Division, Shirley, NY 11967.

Therefore, under authority delegated to the Commissioner of Food and Drugs and redelegated to the Center for Veterinary Medicine, and in accordance with § 514.116 Notice of withdrawal of approval of application (21 CFR 514.116), notice is given that approval of NADAs 014-485, 032-322, 044-655, 045-288, 049-890, 055-034, 055-052, 065-158, 065-259, 065-488, 095-953, 100-689, 100-690, 107-957, 111-069, 131-956, 131-957, 133-490, 140-842, and 140-958, and all supplements and amendments thereto, is hereby withdrawn, effective February 13, 2012.

In a final rule published elsewhere in this issue of the Federal Register, FDA is amending the animal drug regulations to reflect the withdrawal of approval of these applications.

Dated: January 26, 2012.
Bernadette Dunham,
Director, Center for Veterinary Medicine.

[FR Doc. 2012-2109 Filed 1-31-12; 8:45 am]

BILLING CODE 4160-01-P